DEPARTMENT OF AGRICULTURE

Agricultural Marketing Service

[No. PY-06-004]

Notice of Request for Extension of and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB), for an extension for and revision to a currently approved information collection for Poultry Market News Programs.

DATES: Comments received by December 18, 2006 will be considered.

Additional Information Or Comments: Interested parties are invited to submit written comments concerning this notice. Comments must be sent to Michael E. Sheats, Chief, Poultry Market News Branch, Poultry Programs, Agricultural Marketing Service, U.S. Department of Agriculture, STOP 0262, 1400 Independence Avenue, SW., Washington, DC 20250-0262, or fax (202-720-2403). Alternately, comments may be submitted electronically to: Michael.Sheats@usda.gov. Comments may also be submitted electronically to: AMSPYDockets@usda.gov or http://www.regulations.gov. Comments should make reference to the date and page number of this issue of the Federal Register and will be made available for public inspection in the above office during regular business hours.

All responses to this notice will be summarized and included in the request for OMB approval. All comments will become a matter of public record.

FOR FURTHER INFORMATION CONTACT: Michael E. Sheats, Chief, Poultry Market News Branch, 202-720-6911.

SUPPLEMENTARY INFORMATION:

Paperwork Reduction Act

This notice contains submission requirements subject to public comment and review by the Office of Management and Budget (OMB) under the Paperwork Reduction Act of 1995 (PRA) (44 U.S.C. Chapter 35). In accordance with 5 CFR Part 1320, a description of the submission requirements and an estimate of the resulting burden on applicants is included.

Title: Poultry Market News Reports.

OMB Number: 0581-0033.

Expiration Date of Approval: August 31, 2007.

Type of Request: Extension of and revision to a currently approved information collection.

Abstract: Under the Agricultural Marketing Act of 1946, as amended (7 U.S.C. 1621 et seq.), the Poultry Market News Branch provides up-to-the-minute nationwide coverage of prices, supply, demand, trends, movement, and other pertinent information affecting the trading of poultry and eggs, and their respective products. The market reports compiled and disseminated by Market News provide current, unbiased, factual information to all members of the Nation's agricultural industry, from farm to retailer. These market reports assist producers, processors, wholesalers, retailers, and others in making informed production, purchasing, and sales decisions and promote orderly marketing by placing buyers and sellers on a more equal negotiating basis.

Market news reporters communicate with buyers and sellers of egg and poultry commodities on a daily basis in order to accomplish the Program's mission. This communication and information gathering is accomplished through the use of telephone conversations, facsimile transmissions, and electronic mail messages. Market News uses one OMB approved form, PY-90: Monthly Dried Egg Solids Stocks Report, to collect inventory information monthly from commercial dried egg products plants throughout the U.S. Cooperating firms submit this form to Market News primarily via facsimile transmissions.

(1) Collection of Market Information.

Estimate of Burden: Public reporting burden for this collection of information is estimated to average 0.083 hours per response.

Respondents: Producers, processors, brokers, distributors, and retailers.

Estimated Number of Respondents: 1,775.

Estimated Number of Responses: 221,875.

Estimated Number of Responses per Respondent: 125.

Estimated Total Annual Burden on Respondents: 18,415.5 hours.

(2) Monthly Dried Egg Solids Stocks Form PY-90.

Estimate of Burden: Public reporting burden for this collection of information is estimated to average 0.083 hours per response.

Respondents: Commercial domestic dried egg products plants.

Estimated Number of Respondents: 10.

Estimated Number of Responses: 80.

Estimated Number of Responses per Respondent: 8.

Estimated Total Annual Burden on Respondents: 6.64 hours.

Comments are invited on: (1) Whether the proposed collection of the information is necessary for the proper performance of the functions of the agency, including whether the information will have practical utility; (2) the accuracy of the Agency's estimate of the burden of the proposed collection of information including the validity of the methodology and assumptions used; (3) ways to enhance the quality, utility and clarity of the information to be collected; and (4) ways to minimize the burden of the collection of information on those who are to respond, including the use of appropriate automated, electronic, mechanical, or other technological collection techniques or other forms of information technology.

Dated: October 11, 2006.
Lloyd C. Day,
Administrator, Agricultural Marketing Service.

[FR Doc. E6-17193 Filed 10-16-06; 8:45 am]

BILLING CODE 3410-02-P